DEPARTMENT OF COMMERCE

International Trade Administration

[A-570-866]

Folding Gift Boxes from the People's Republic of China: Final Results of the Expedited Sunset Review of the Antidumping Duty Order

AGENCY: Import Administration, International Trade Administration, Department of Commerce.

SUMMARY: On December 1, 2006, the Department of Commerce (“Department”) initiated a sunset review of the antidumping duty order on folding gift boxes from the People's Republic of China (“PRC”), pursuant to section 751(c) of the Tariff Act of 1930, as amended (“Act”). See Initiation of Five-year (“Sunset”) Reviews, 71 FR 69545 (December 1, 2006) (“Sunset Initiation”); see also Notice of Antidumping Duty Order: Certain Folding Gift Boxes From the People's Republic of China, 67 FR 864 (January 8, 2002) (“Order”). Based on the notice of intent to participate and response filed by the domestic interested party, and the lack of response from respondent interested parties, the Department conducted an expedited sunset review of the Order pursuant to section 751(c)(3)(B) of the Act and 19 C.F.R. 351.218(e)(1)(ii)(C)(2). As a result of this sunset review, the Department finds that revocation of the Order would likely lead to continuation or recurrence of dumping at the levels indicated in the “Final Results of Review” section of this notice.

EFFECTIVE DATE: April 5, 2007.

FOR FURTHER INFORMATION CONTACT: Juanita H. Chen or Robert A. Bolling; AD/CVD Operations, Import Administration, International Trade Administration, U.S. Department of Commerce, 1401 Constitution Avenue, NW, Washington, DC 20230; telephone: 202-482-1904 and 202-482-3434, respectively.

SUPPLEMENTARY INFORMATION:

Background

On December 1, 2006, the Department initiated a sunset review of the Order on folding gift boxes from the PRC pursuant to section 751(c) of the Act. See Sunset Initiation. On December 15, 2006, the Department timely received a notice of intent to participate from Simkins Industries, Inc. (“Simkins”), pursuant to 19 C.F.R. 351.218(d)(1)(i). Simkins claimed interested party status under section 771(9)(C) of the Act as a domestic producer of subject merchandise. On January 3, 2007, the Department received a request from Harvard Folding Box Company, Inc. (“Harvard Box”), asking to be substituted for Simkins as the domestic interested party in the sunset review. Both Simkins and Harvard Box are represented by the same counsel. Harvard Box also filed a substantive response within the 30-day deadline as specified in 19 C.F.R. 351.218(d)(3)(i). The Department did not receive any objections to Harvard Box's request to be substituted for Simkins. The Department did not receive a substantive response from any respondent interested party. As a result, pursuant to section 751(c)(3)(B) of the Act and 19 C.F.R. 351.218(e)(1)(ii)(C)(2), the Department conducted an expedited sunset review of the Order.

Scope Of The Order

The products covered by the order are certain folding gift boxes. Folding gift boxes are a type of folding or knock-down carton manufactured from paper or paperboard. Folding gift boxes are produced from a variety of recycled and virgin paper or paperboard materials, including, but not limited to, clay-coated paper or paperboard and kraft (bleached or unbleached) paper or paperboard. The scope of the order excludes gift boxes manufactured from paper or paperboard of a thickness of more than 0.8 millimeters, corrugated paperboard, or paper mache. The scope of the order also excludes those gift boxes for which no side of the box, when assembled, is at least nine inches in length.

Folding gift boxes included in the scope of the order are typically decorated with a holiday motif using various processes, including printing, embossing, debossing, and foil stamping, but may also be plain white or printed with a single color. The subject merchandise includes folding gift boxes, with or without handles, whether finished or unfinished, and whether in one-piece or multi-piece configuration. One-piece gift boxes are die-cut or otherwise formed so that the top, bottom, and sides form a single, contiguous unit. Two-piece gift boxes are those with a folded bottom and a folded top as separate pieces. Folding gift boxes are generally packaged in shrink-wrap, cellophane, or other packaging materials, in single or multi-box packs for sale to the retail customer. The scope of the order excludes folding gift boxes that have a retailer's name, logo, trademark or similar company information printed prominently on the box's top exterior (such folding gift boxes are often known as “not-for-resale” gift boxes or “give-away” gift boxes and may be provided by department and specialty stores at no charge to their retail customers). The scope of the order also excludes folding gift boxes where both the outside of the box is a single color and the box is not packaged in shrink-wrap, cellophane, other resin-based packaging films, or paperboard.

Imports of the subject merchandise are classified under Harmonized Tariff Schedule of the United States (“HTSUS”) subheadings 4819.20.0040 and 4819.50.4060. These subheadings also cover products that are outside the scope of the order. Furthermore, although the HTSUS subheadings are provided for convenience and customs purposes, our written description of the scope of the order is dispositive.

Analysis Of Comments Received

A complete discussion of all issues raised in this review are addressed in the accompanying Issues and Decision Memorandum, which is hereby adopted by this notice. See “Issues and Decision Memorandum for the Final Results in the Expedited Sunset Review of the Antidumping Duty Order on Folding Gift Boxes from the People's Republic of China,” from Stephen J. Claeys, Deputy Assistant Secretary, to David M. Spooner, Assistant Secretary for Import Administration, dated March 29, 2007 (“I&D Memo”). The issues discussed in the accompanying I&D Memo include the likelihood of continuation or recurrence of dumping and the magnitude of the dumping margin likely to prevail if the Order were revoked. Parties can obtain a public copy of the I&D Memo on file in the Central Records Unit, room B-099, of the main Commerce building. In addition, a complete public version of the I&D Memo can be accessed directly on the Web at http://ia.ita.doc.gov and clicking on “Federal Register Notices.” The paper copy and electronic version of the I&D Memo are identical in content.

Final Results Of Sunset Review

The Department determines that revocation of the Order on folding gift boxes from the PRC would likely lead to continuation or recurrence of dumping at the rates listed below:

Manufacturers/Exporters/Producers | Weighted-Average Margin (Percent)
Red Point Paper Products Co., Ltd. | 8.90 %%
Max Fortune Industrial Ltd. | 1.67 %% (de minimis)
PRC-wide rate | 164.75 %%

Notification Regarding Administrative Protective Order

This notice also serves as the only reminder to parties subject to administrative protective order (“APO”) of their responsibility concerning the return or destruction of proprietary information disclosed under APO in accordance with 19 C.F.R. 351.305. Timely notification of the return or destruction of APO materials or conversion to judicial protective order is hereby requested. Failure to comply with the regulations and terms of an APO is a violation which is subject to sanction.

We are issuing and publishing these results and notice in accordance with sections 751(c), 752(c), and 777(i)(1) of the Act.

Dated: March 29, 2007.
David M. Spooner,
Assistant Secretary for Import Administration.

[FR Doc. E7-6404 Filed 4-4-07; 8:45 am]

BILLING CODE 3510-DS-S